DEPARTMENT OF AGRICULTURE

Agricultural Marketing Service

7 CFR Part 1205

[AMS-CN-17-0041]

Cotton Research and Promotion Program: Procedures for Conduct of Sign-Up Period

AGENCY: Agricultural Marketing Service, USDA.

ACTION: Correcting amendments.

SUMMARY: The Agricultural Marketing Service (AMS) is making corrections to the Code of Federal Regulations (CFR) by revising the authority citation for its regulation, Cotton Research and Promotion. In a final rule published in the Federal Register on June 24, 2015, changes were inadvertently made to remove a legal citation from the authority citation and to erroneously include an unnecessary authority citation after a section in AMS regulations. This document corrects those errors.

DATES: Effective August 16, 2017.

FOR FURTHER INFORMATION CONTACT: Shethir M. Riva, Director, Research and Promotion Staff, Cotton and Tobacco Program, Agricultural Marketing Service, USDA, 100 Riverside Parkway, Suite 101, Fredericksburg, Virginia 22406, telephone (540) 361-2726, facsimile (540) 361-1199, or email at Shethir.Riva@ams.usda.gov.

SUPPLEMENTARY INFORMATION: This document provides correcting amendments to the Cotton Research and Promotion Order (Order), found at 7 CFR part 1205, so that complete and appropriate authority is stated in the Order. In a final rule published in the Federal Register on June 24, 2015 (80 FR 36231), the rules and regulations regarding the procedures for the conduct of a sign-up period for eligible cotton producers and importers to request a continuance referendum on the 1991 amendments to the Order were revised. In that final rule, changes were inadvertently made to remove “7 U.S.C. 7401” from the authority citation. In addition, AMS discovered that an irrelevant authority citation “Authority: 7 U.S.C. 2101-2118” occurs after § 1205.29(c) in the CFR. This document corrects those errors by reinserting “7 U.S.C. 7401” into the authority citation that was removed from Title 7 of the CFR, part 1205, and by removing the unnecessary authority citation placed after § 1205.29(c) of the Order.

List of Subjects in 7 CFR Part 1205

Advertising, Agricultural research, Cotton, Marketing agreements, Reporting and recordkeeping requirements.

Accordingly, 7 CFR part 1205 is amended as follows:

PART 1205—COTTON RESEARCH AND PROMOTION

1. The authority citation for part 1205 is revised to read as follows:

Authority: 7 U.S.C. 2101-2118; 7 U.S.C 7401.

§ 1205.29 [Amended]

2. In § 1205.29, remove the following language “(Authority: 7 U.S.C. 2101-2118.)” from the end of the section.

Dated: August 9, 2017.
Bruce Summers,
Acting Administrator, Agricultural Marketing Service.

[FR Doc. 2017-17143 Filed 8-14-17; 8:45 am]

BILLING CODE 3410-02-P